DEPARTMENT OF HEALTH AND HUMAN SERVICES

Substance Abuse and Mental Health Services Administration

Fiscal Year (FY) 2002 Funding Opportunities

AGENCY: Substance Abuse and Mental Health Services Administration, HHS.

ACTION: Notice of Funding Availability.

SUMMARY: The Substance Abuse and Mental Health Services Administration (SAMHSA) Center for Mental Health Services (CMHS) announces the availability of FY 2002 funds for grants for the following activity. This notice is not a complete description of the activity; potential applicants must obtain a copy of the Guidance for Applicants (GFA), including Part I, Partnerships for Youth Transition, and Part II, General Policies and Procedures Applicable to all SAMHSA Applications for Discretionary Grants and Cooperative Agreements, before preparing and submitting an application.

Activity | Partnerships for Youth Transition
Application Deadline | April 11, 2002
Est. Funds FY 2001 | $2 million
Est. No. of Awards | 4-5
Project Period | 4 years

The actual amount available for the award may vary, depending on unanticipated program requirements and the number and quality of applications received. FY 2002 funds for the activity discussed in this announcement were appropriated by Congress under Public Law No. 106-310. SAMHSA's policies and procedures for peer review and Advisory Council review of grant and cooperative agreement application were published in the Federal Register (Vol. 58, No. 126) on July 2, 1993.

General Instructions: Applicants must use application form PHS 5161-1 (Rev. 7/00). The application kit contains the two-part application materials (complete programmatic guidance and instructions for preparing and submitting applications), the PHS 5161-1 which includes Standard Form 424 (Face Page), and other documentation and forms. Application kits may be obtained from: National Mental Health Services Knowledge Exchange Network (KEN), PO Box 42490, Washington, DC 20015, Telephone: 1-800-789-2647.

The PHS 5161-1 application form and the full text of the activity are also available electronically via SAMHSA's World Wide Web Home Page: http://www.samhsa.gov

When requesting an application kit, the applicant must specify the particular activity for which detailed information is desired. All information necessary to apply, including where to submit applications and application deadline instructions, are included in the application kit.

Purpose: Substance Abuse and Mental Health Services Administration (SAMHSA) Center for Mental Health Services (CMHS) announces the availability of FY 2002 funds for cooperative agreements to develop, implement, stabilize, and document models of comprehensive programs to help support youth with serious emotional disturbances or serious mental illnesses as they enter the period of emerging adulthood. By the end of the award period, these models should be well-positioned to be rigorously evaluated regarding their effectiveness.

Eligibility: States and political sub-divisions of States (e.g., State agencies or departments; County, City, or State regional agencies; Indian tribes or tribal organizations as defined in section 4(b) and section 4(c) of the Indian Self-determination and Education Assistance Act) can apply. States are defined in section 2 of the PHS Act as including, in addition to the several States, only the District of Columbia, Guam, Commonwealth of Puerto Rico, Northern Mariana Islands, Virgin Islands, American Samoa, and Trust Territory of the Pacific Islands (now Palau, Micronesia, and the Marshall Islands). Interested parties who do not meet these criteria, including faith-based organizations, are encouraged to partner with an agency or organization that is eligible to apply as the lead agency.

Availability of Funds: Approximately $2 million will be available for 4-5 awards. No more than $500,000 in total costs (direct and indirect) will be awarded per cooperative agreement per year. Actual funding levels will depend on the availability of funds. SAMHSA intends to partner with other federal agencies and private foundations in the administration and funding of this program. The possibility exists, therefore, that money may become available to fund more sites than are specified here.

Period of Support: Support should be requested for 4 years. Annual continuation awards will depend on the availability of funds and progress achieved. Only those programs that have completed all required products to the satisfaction of CMHS program staff at the end of year 2 will be renewed for years 3 and 4.

Criteria for Review and Funding

General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds and geographical distribution of sites will also be award criteria. No more than one cooperative agreement will be awarded per State.

Catalog of Federal Domestic Assistance Number: 93.230.

Program Contact: For questions concerning program issues contact: Diane L. Sondheimer, Center for Mental Health Services, Substance Abuse and Mental Health Services Administration, 5600 Fishers Lane, Room 11C-16, Rockville, MD 20857, Telephone: 301-443-1333, Email: dsondhei@samhsa.gov.

For questions regarding grants management issues, contact: Stephen Hudak, Division of Grants Management, Substance Abuse and Mental Health Services Administration, 5515 Security Lane, Rm 630, Rockville, MD 20852, (301) 443-9666, E-mail: shudak@samhsa.gov.

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2002 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2002 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: February 13, 2002.
Richard Kopanda,
Executive Officer, Substance Abuse and Mental Health, Services Administration.

[FR Doc. 02-4031 Filed 2-19-02; 8:45 am]

BILLING CODE 4162-20-P